DEPARTMENT OF JUSTICE

Notice of Lodging of Proposed Modification to Consent Decree Under the Clean Air Act and Other Statutes

On January 6, 2023, the Department of Justice lodged a proposed Agreement and Order Regarding Modification of Consent Decree (“Agreement and Order”) with the United States District Court for the Eastern District of Texas in the lawsuit entitled United States and State of Texas v. E.I. du Pont de Nemours and Company and Performance Materials NA, Inc., Case No. 1:21-cv-00516-MJT. The original Consent Decree was entered by the Court on January 28, 2022, and it requires the settling defendants to implement injunctive relief at an ethylene production facility located in Orange, Texas.

The proposed Agreement and Order modifies one injunctive relief requirement of the original Consent Decree to provide for use of an alternative control technology to reduce benzene emissions to air at certain locations within the facility. Specifically, the proposed modification would change the control requirement for benzene waste emissions at two locations to the use of a thermal oxidizer as the primary control technology. Carbon canisters operated in series would not be used at these locations. There are no other changes to the original Consent Decree.

The publication of this notice opens a period for public comment on the proposed Agreement and Order. Comments should be addressed to the Assistant Attorney General, Environment and Natural Resources Division, and should refer to entitled United States and State of Texas v. E.I. du Pont de Nemours and Company and Performance Materials NA, Inc., Case No. 1:21-cv-00516-MJT, D.J. Ref. No. 90-7-1-10173. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Agreement and Order may be examined and downloaded at this Justice Department website: http://www.usdoj.gov/enrd/Consent_Decrees.html. We will provide a paper copy of the Agreement and Order upon written request and payment of reproduction costs. Please mail your request and payment to: Consent Decree Library, U.S. DOJ—ENRD, P.O. Box 7611, Washington, DC 20044-7611.

Please enclose a check or money order for $3.00 (25 cents per page reproduction cost) for the proposed Agreement and Order, payable to the United States Treasury.

Thomas Carroll,
Assistant Section Chief, Environmental Enforcement Section, Environment and Natural Resources Division.

[FR Doc. 2023-00438 Filed 1-11-23; 8:45 am]

BILLING CODE 4410-15-P